ELECTION ASSISTANCE COMMISSION

Sunshine Act Notice

AGENCY: United States Election Assistance Commission.

ACTION: Notice of public meeting.

Date AND Time: Tuesday, May 1, 2007, 2-4 p.m.

Place: U.S. Election Assistance Commission, 1225 New York Ave., NW., Suite 150, Washington, DC 20005, (Metro Stop: Metro Center).

Agenda The Commission will consider a request made of the EAC by the state of Florida regarding the use of HAVA funds for the purchase of voting equipment: The Commission will consider adopting an advisory on Maintenance of Effort (MOE) requirements regarding HAVA compliance. The Commission will consider other administrative matters.

This Meeting will be open to the Public.

Statement of Exceptional Circumstances: This notice of a meeting will not be published in the Federal Register 7 days prior to the meeting date. Late notice was unavoidable due to the fact that the Florida legislature is currently considering a legislative bill containing provisions on the use of HAVA funds that are directly contingent upon an official decision by EAC Commissioners.

Person to Contact for Information: Bryan Whitener, Telephone: (202) 566-3100.

Thomas R. Wilkey,
Executive Director, U.S. Election Assistance Commission.

[FR Doc. 07-2105 Filed 4-25-07; 2:01 pm]

BILLING CODE 6820-KF-M